DEPARTMENT OF AGRICULTURE

Foreign Agricultural Service

Trade Adjustment Assistance for Farmers

AGENCY: Foreign Agricultural Service, USDA.

ACTION: Notice.

The Administrator, Foreign Agricultural Service (FAS), has certified a petition for trade adjustment assistance (TAA) that was filed on September 15, 2003, by the Wild Blueberry Commission of Maine, Orono, Maine. Producers of wild blueberries in the state of Maine are now eligible to apply for program benefits.

SUPPLEMENTARY INFORMATION: Upon investigation, the Administrator determined that increasing imports of wild blueberries contributed importantly to a decline in domestic producer prices of 33 percent during July 2002 through June 2003, when compared with the previous 5-year average.

Producers certified as eligible for TAA may apply to the Farm Service Agency county office for benefits anytime prior to the application deadline of January 20, 2004. After submitting completed applications, producers shall receive technical assistance provided by the Extension Service at no cost and an adjustment assistance payment, if certain program criteria are met.

Producers of raw agricultural commodities wishing to learn more about TAA and how they may apply should contact the Department of Agriculture at the addresses provided below for General Information.

Producers Certified as Eligible for TAA Contact: Local Farm Service Agency service center.

For General Information About TAA Contact: Jean-Louis Pajot, Coordinator, Trade Adjustment Assistance for Farmers, FAS, USDA, (202) 720-2916, e-mail: trade.adjustment@fas.usda.gov.

Dated: October 27, 2003.
A. Ellen Terpstra,
Administrator, Foreign Agricultural Service.

[FR Doc. 03-27960 Filed 11-5-03; 8:45 am]

BILLING CODE 3410-10-M